ENVIRONMENTAL PROTECTION AGENCY

[FRL-9729-8]

Public Water System Supervision Program Revision for the State of Utah

AGENCY: Environmental Protection Agency (EPA).

ACTION: Notice.

SUMMARY: In accordance with the provisions of Section 1413 of the Safe Drinking Water Act (SDWA), 42 U.S.C. 300g-2, public notice is hereby given that the state of Utah has revised its Public Water System Supervision (PWSS) Program by adopting regulations for the Lead and Copper Short Term Revisions, Long Term 1 Enhanced Surface Water Treatment Rule, the Long Term 2 Enhanced Surface Water Treatment Rule and the Stage 2 Disinfectants and Disinfection Byproducts Rule that correspond to the National Primary Drinking Water Regulations (NPDWR). The EPA has completed its review of these revisions in accordance with the SDWA and proposes to approve them.

Today's approval action does not extend to public water systems in Indian country as defined in 18 U.S.C. 1151. Please see Supplementary Information, Item B.

DATES: Any member of the public is invited to submit written comments and/or request a public hearing on this determination by October 19, 2012. Please see Supplementary Information, Item C, for details. Should no timely and appropriate request for a hearing be received, and the Regional Administrator (RA) does not elect to hold a hearing on his own motion, this determination shall become effective October 19, 2012. If a public hearing is requested and granted, then this determination shall not become effective until such time following the hearing as the RA issues an order affirming or rescinding this action.

ADDRESSES: Written comments and requests for a public hearing should be addressed to: James B. Martin, Regional Administrator, c/o Robert Clement, Drinking Water Unit (8P-W-DW), U.S. EPA, Region 8, 1595 Wynkoop Street, Denver, CO 80202-1129.

All documents relating to this determination are available for inspection at the following locations: (1) U.S. EPA, Region 8, Drinking Water Unit (7th floor), 1595 Wynkoop Street, Denver, CO 80202-1129; (2) Utah Department of Environmental Quality, Division of Drinking Water, (3rd floor), 195 North 1950 West, Salt Lake City, UT 84116.

FOR FURTHER INFORMATION CONTACT: Robert Clement, Drinking Water Unit (8P-W-DW), U.S. EPA, Region 8, 1595 Wynkoop Street, Denver, CO 80202-1129, (303) 312-6653.

SUPPLEMENTARY INFORMATION: The EPA approved Utah's application for assuming primary enforcement authority for the PWSS program, pursuant to Section 1413 of the SDWA, 42 U.S.C. 300g-2, and 40 CFR part 142. The Utah Department of Environmental Quality, Division of Drinking Water administers Utah's PWSS program.

A. Why are revisions to state programs necessary?

States with primary PWSS enforcement authority must comply with the requirements of 40 CFR part 142 for maintaining primacy. They must adopt regulations that are at least as stringent as the NPDWRs at 40 CFR parts 141 and 142, as well as adopt all new and revised NPDWRs in order to retain primacy (40 CFR 142.12(a)).

B. How does today's action affect Indian country (18 U.S.C. 1151) in Utah?

Utah is not authorized to carry out its PWSS program in Indian country, as that term is defined at 18 U.S.C. 1151. Indian country includes, but is not limited to, land within the formal Indian Reservations located within or abutting the state of Utah, including the Skull Valley, Paiute, Navajo, Goshute, Ute Mountain, and Northwestern Shoshoni Indian Reservations; Indian country lands within the Uintah and Ouray Indian Reservation; any land held in trust by the United States for an Indian tribe, and any other areas which are “Indian country” within the meaning of 18 U.S.C. 1151.

C. Requesting a Hearing

Any request for a public hearing shall include: (1) The name, address, and telephone number of the individual, organization, or other entity requesting a hearing; (2) a brief statement of the requester's interest in the RA's determination and of information that he/she intends to submit at such hearing; and (3) the signature of the requester or responsible official, if made on behalf of an organization or other entity.

Notice of any hearing shall be given not less than fifteen (15) days prior to the time scheduled for the hearing and will be made by the RA in the Federal Register and in a newspaper of general circulation in the state. A notice will also be sent to both the person(s) requesting the hearing and the state. The hearing notice will include a statement of purpose, information regarding time and location, and the address and telephone number where interested persons may obtain further information. The RA will issue a final determination upon review of the hearing record.

Frivolous or insubstantial requests for a hearing may be denied by the RA. However, if a substantial request is made within thirty (30) days after this notice, a public hearing will be held.

Please bring this notice to the attention of any persons known by you to have an interest in this determination.

Dated: August 27, 2012.
Howard M. Cantor,
Acting Regional Administrator, Region 8.

[FR Doc. 2012-23093 Filed 9-18-12; 8:45 am]

BILLING CODE 6560-50-P